COMMITTEE FOR PURCHASE FROM PEOPLE WHO ARE BLIND OR SEVERELY DISABLED

Procurement List; Additions and Deletions

AGENCY: Committee for Purchase From People Who are Blind or Severely Disabled.

ACTION: Additions to and deletions from the Procurement List.

SUMMARY: This action adds products to the Procurement List that will be furnished by the nonprofit agency employing persons who are blind or have other severe disabilities, and deletes products and a service from the Procurement List previously furnished by such agencies.

DATES: Effective Date: 2/24/2014.

ADDRESSES: Committee for Purchase From People Who are Blind or Severely Disabled, 1401 S. Clark Street, Suite 10800, Arlington, Virginia, 22202-4149.

FOR FURTHER INFORMATION CONTACT: Patricia Briscoe, Telephone: (703) 603-7740, Fax: (703) 603-0655, or email CMTEFedReg@AbilityOne.gov.

SUPPLEMENTARY INFORMATION:

Additions

On 11/8/2013 (78 FR 67129-67130), the Committee for Purchase From People Who are Blind or Severely Disabled published notice of proposed additions to the Procurement List.

After consideration of the material presented to it concerning capability of qualified nonprofit agency to provide the products and impact of the additions on the current or most recent contractors, the Committee has determined that the products listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organization that will furnish the products to the Government.

2. The action will result in authorizing small entities to furnish the products to the Government.

3. There are no known regulatory alternatives which would accomplish the objectives of the Javits-Wagner-O'Day Act (41 U.S.C. 8501-8506) in connection with the products proposed for addition to the Procurement List.

End of Certification

Accordingly, the following products are added to the Procurement List:

Products

NSN: 8455-00-NIB-0036—ID Card Holder, Dual Cards, Rigid Plastic, Black, W/Neck Lanyard.

NSN: 8455-00-NIB-0037—ID Card Holder, Dual Cards, Rigid Plastic, Black.

NSN: 8455-00-NIB-0039—Badge Holder, ID, Plastic, Clear, Waterproof W/Neck Lanyard.

NPA: West Texas Lighthouse for the Blind, San Angelo, TX.

Contracting Activity: General Services Administration, Fort Worth, TX.

Coverage: A-List for the Total Government Requirement as aggregated by the General Services Administration.

Deletions

On 12/13/2013 (78 FR 75911-75912), the Committee for Purchase from People Who are Blind or Severely Disabled published notice of proposed deletions from the Procurement List.

After consideration of the relevant matter presented, the Committee has determined that the products and service listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the products and service to the Government.

3. There are no known regulatory alternatives which would accomplish the objectives of the Javits-Wagner-O'Day Act (41 U.S.C. 8501-8506) in connection with the products and service deleted from the Procurement List.

End of Certification

Accordingly, the following products and service are deleted from the Procurement List:

Products

NSN: 7520-01-455-7236—Pen, Ballpoint, Stick Type, Recycled.

NPA: West Texas Lighthouse for the Blind, San Angelo, TX.

Contracting Activity: General Services Administration, New York, NY.

NSN: 8955-01-E61-3689—Coffee, Roasted, Ground, 39 oz. bag.

NPA: CW Resources, Inc., New Britain, CT.

Contracting Activity: Defense Logistics Agency Troop Support, Philadelphia, PA.

Tree Marking Paint and Tracer Element (16 oz. Bottle)

NSN: 8010-01-273-9343—Zones 8-10.

NSN: 8010-01-273-9344—Zones 8-10.

NSN: 8010-01-273-9345—Zones 8-10

NSN: 8010-01-273-9347—Zones 1-7.

NSN: 8010-01-273-9348—Zones 1-7.

NSN: 8010-01-274-2560—Zones 8-10.

NSN: 8010-01-274-2561—Zones 8-10.

Tree Marking Paint, Water Clean Up

NSN: 8010-01-441-6105—Red.

NSN: 8010-01-441-6106—Red.

Tree Marking Paint, Citrus-Base

NSN: 8010-01-483-6494—Blue.

NSN: 8010-01-483-6498—Orange.

Tree Marking Paint, Water Resistant

NSN: 8010-01-511-5100—Yellow.

NSN: 8010-01-511-5101—Green.

NSN: 8010-01-511-5107—White.

Paint, Tree Marking, Solvent Base

NSN: 8010-01-511-5109—Black, 1 Gallon.

NPA: The Lighthouse for the Blind, St. Louis, MO.

Contracting Activity: General Services Administration, Kansas City, MO.

Service

Service Type/Location: Janitorial/Custodial Service, U.S. Geological Survey Upper Midwest, Environmental Science Center, 2630 Fanta Reed Road, La Crosse, WI.

NPA: Riverfront Activity Center, Inc., La Crosse, WI.

Contracting Activity: Dept. of the Interior, Office of Policy, Management, and Budget, NBC Acquisition Services Division, Washington, DC

Patricia Briscoe,
Deputy Director, Business Operations (Pricing and Information Management).

[FR Doc. 2014-01419 Filed 1-23-14; 8:45 am]

BILLING CODE 6353-01-P